DEPARTMENT OF TRANSPORTATION

Federal Transit Administration

Transfer of Federally Assisted Land or Facility

AGENCY: Federal Transit Administration, DOT.

ACTION: Notice of intent to transfer federally assisted land or facility.

SUMMARY: Section 5334(g) of the Federal Transit Laws, as codified, 49 U.S.C. 5301 et seq., permits the Administrator of the Federal Transit Administration (FTA) to authorize a recipient of FTA funds to transfer land or a facility to a public body for any public purpose with no further obligation to the Federal Government if, among other things, no Federal agency is interested in acquiring the asset for Federal use. Accordingly, FTA is issuing this notice to advise Federal agencies that New Jersey Transit (NJT) intends to transfer the Union City Bus Maintenance Facility on New York Avenue in Union City, New Jersey, to the City of Union City. The property comprises one entire block and is bounded by Bergenline Avenue on the west, New York Avenue on the east, 29th Street on the north and 27th Street on the south. NJT no longer has a need for, and has not occupied the property for some time. Union City intends to use the property as a department of public works consolidated maintenance and storage facility for its fleet of vehicles, as well as create structured public parking and other uses.

EFFECTIVE DATE: Any Federal agency interested in acquiring the land or facility must notify the FTA Region II Office of its interest by November 17, 2006.

ADDRESSES: Interested parties should notify the Regional Office by writing to Letitia A. Thompson, Regional Administrator, Federal Transit Administration, 1 Bowling Green, Room 428, New York, NY 10004.

FOR FURTHER INFORMATION CONTACT: Hans Point Du Jour, FTA, Region II, (212) 668-2170.

SUPPLEMENTARY INFORMATION:

Background

49 U.S.C. 5334(g) provides guidance on the transfer of capital assets. Specifically, if a recipient of FTA assistance decides an asset acquired under this chapter at least in part with that assistance is no longer needed for the purpose for which it was acquired, the Secretary of Transportation may authorize the recipient to transfer the asset to a local government authority to be used for a public purpose with no further obligation to the Government. 49 U.S.C. 5334(g)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(g)(1)(D) of the Federal Transit Laws. Accordingly, FTA hereby provides notice of the availability of the land or facility further described below. Any Federal agency interested in acquiring the affected land or facility should promptly notify the FTA. If no Federal agency is interested in acquiring the existing land or facility, FTA will make certain that the other requirements specified in 49 U.S.C. 5334(g)(1)(A) through (C) are met before permitting the asset to be transferred.

Additional Description of Land or Facility

The subject building is located at 2701 New York Avenue, Union City, New Jersey, on approximately 3 acres of land. The property comprises one entire block and is bounded by Bergenline Avenue on the west, New York Avenue on the east, 29th Street on the north and 27th Street on the south. The building was built in stages between 1896 and 1928 as a trolley maintenance facility. It has approximately 135,000 square feet of building area overall, with 7 bus bays available for storage and service and is in a deteriorating condition. The structure currently houses the City of Union City Department of Public Works operations, in addition to smaller City offices. Prior to its use by NJT, the site was formerly occupied by Public Service Gas and Electric Company.

Issued on: October 12, 2006.
Anthony G. Carr,
Deputy Regional Administrator.

[FR Doc. E6-17264 Filed 10-17-06; 8:45 am]

BILLING CODE 4910-57-P